DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (FR, Vol. 67, No. 125, pp. 43632-43633 dated June 28, 2002) is amended to reflect a change to the Office of Communications and Operations Support.

The specific amendments to part F are described below:

• Section F.10. (Organization) is amended to read as follows:

1. Public Affairs Office (FAC)

2. Center for Beneficiary Choices (FAE)

3. Office of Legislation (FAF)

4. Center for Medicare Management (FAH)

5. Office of Equal Opportunity and Civil Rights (FAJ)

6. Office of Research, Demonstration, and Information (FAK)

7. Office of Clinical Standards and Quality (FAM)

8. Office of the Actuary (FAN)

9. Center for Medicaid and State Operations (FAS)

10. Northeastern Consortium (FAU)

11. Southern Consortium (FAV)

12. Midwestern Consortium (FAW)

13. Western Consortium (FAX)

14. Office of Operations Management (FAY)

15. Office of Internal Customer Support (FBA)

16. Office of Information Services (FBB)

17. Office of Financial Management (FBC)

18. Office of Strategic Operations and Regulatory Affairs (FGA)

• Section F.20. (Functions) is amended by restructuring the Office of Communications and Operations Support and changing their title to the Office of Strategic Operations and Regulatory Affairs. The new functional statement reads as follows:

18. Office of Strategic Operations and Regulatory Affairs (FGA)

• Manages the Agency's decision-making and regulatory process.

• Serves in a neutral broker coordination role which includes: Scheduling meetings and briefings for the Administrator and coordinating communications between and among central and regional offices to ensure that emerging issues are identified early, all concerned components are directly and fully involved in policy development/decision making, and that all points of view are presented.

• Provides leadership, direction, and advocacy, on behalf of top CMS officials in connection with official policy matters for presentation to the Administrator and Deputy Administrator/Chief Operating Officer to insure that all points of view and program interests of concern to the Administrator and Deputy Administrator/Chief Operating Officer are developed and properly presented for consideration. Reviews policy statements by component Directors and others to anticipate potential problems or inconsistencies with views of the Administrator, Deputy Administrator/Chief Operating Officer, and the Administration. Assists in resolving these matters to the satisfaction of the Agency and top management.

• Manages meeting requests for or on behalf of the Administrator, and Deputy Administrator/Chief Operating Officer. Coordinates the preparation of briefing materials for the Administrator, Deputy Administrator/Chief Operating Officer, and the Department in advance of the Administrator and Deputy Administrator/Chief Operating Officer's participation in meetings, appointments with major groups, etc. Works with CMS components to assure that appropriate briefing materials are presented to Senior Leadership. Senior officials in CMS and the Department, as well as officials of other Federal agencies, state and local governments, and outside interest groups attend these meetings.

• Coordinates the preparation of manuals and other policy instructions to ensure accurate and consistent implementation of the Agency's programs.

• Manages the Agency's system for developing, clearing and tracking regulations, setting regulation priorities and corresponding work agendas; coordinates the review of regulations received for concurrence from departmental and other government agencies, and develops routine and special reports on the Agency's regulatory activities.

• Manages the regulations development process to ensure timely decision making by the Administrator and Deputy Administrator/Chief Operating Officer on CMS regulations.

• Provides leadership and management of the Agency's Executive Correspondence system. Operates the agency-wide correspondence tracking and control system and provides guidance and technical assistance on standards for content of correspondence and memoranda.

• Manages the agency-wide clearance system to ensure appropriate involvement from Agency components and serves as a primary focal point for liaison with the Executive Secretariat in the Office of the Secretary.

• Provides management and administrative support to the Office of the Attorney Advisor and staff.

• Acts as audit liaison with the General Accounting Office (GAO) and the HHS Office of Inspector General (OIG).

• Monitors and coordinates major CMS legislative initiatives such as tracking the status of the Agency's implementation of Balanced Budget Act, Balanced Budget Refinement Act, and the Benefits Improvement and Protection Act provisions.

• Coordinates and prepares the advance planning reports for the Secretary and the Administrator (Secretary's Forecast Report).

• Acts as the liaison with the Office of the Secretary for Reports to the Congress and maintains a tracking system to monitor status. Also serves as the CMS liaison with the Small Business Administration's Office of the National Ombudsman.

• Develops standard processes for all CMS FACA committees and provides operational and logistical support to CMS components for conferences and on all matters relating to Federal Advisory Committees.

• Conducts activities necessary to the receipt, management, response, and reporting requirements of the Department under the Freedom of Information Act (FOIA) regarding all requests received by CMS.

• Maintains a log of all FOIA requests received by the central office, refers requests to the appropriate components within headquarters, the regions or among carriers and intermediaries for the collection of the documents requested. Makes recommendations and prepares replies to requesters, including denials of information as permitted under FOIA, and drafts briefing materials and responses in connection with appeals of denial decisions.

• Directs the maintaining and amending of CMS-wide records for confidentiality and disclosure to the Privacy Act to include: planning, organizing, initiating and controlling privacy matching assignments.

Dated: August 12, 2002.
Ruben J. King-Shaw, Jr.,
Deputy Administrator and Chief Operating Officer, Centers for Medicare & Medicaid Services.

[FR Doc. 02-21370 Filed 8-22-02; 8:45 am]

BILLING CODE 4120-01-P